DEFENSE BASE CLOSURE AND REALIGNMENT COMMISSION

Notice of the Defense Base Closure and Realignment Commission—Open Meeting

AGENCY: Defense Base Closure and Realignment Commission.

ACTION: Notice; Defense Base Closure and Realignment Commission—Open Meeting To Receive Department of Defense Comment on Various Base Closure and Realignment Recommendations (Washington, DC).

SUMMARY: Notice is hereby given that the Defense Base Closure and Realignment Commission will hold an open meeting on August 20, 2005 from 8:30 a.m. to 12 p.m. and 1:30 p.m. to 4:30 p.m. at Senate Hart Hearing Room 216, Constitution Avenue, Washington DC 20510. The delay of this notice resulted from the short time-frame established by statute for the operations of the Defense Base Closure and Realignment Commission and the necessity of coordinating this meeting with a variety of Federal government officials. The Commission requests that the public consult the 2005 Defense Base Closure and Realignment Commission Web site, http://www.brac.gov, for updates. The Commission will meet to receive Department of Defense comment on various recommendations for closure or realignment of installations. This meeting will be open to the public, subject to the availability of space.

DATES: August 20, 2005 from 8:30 a.m. to 1:30 p.m.

ADDRESSES: Senate Hart Hearing Room 216, Constitution Avenue, Washington, DC 20510

FOR FURTHER INFORMATION CONTACT: Please see the 2005 Defense Base Closure and Realignment Commission Web site, http://www.brac.gov. The Commission invites the public to provide direct comment by sending an electronic message through the portal provided on the Commission's Web site or by mailing comments and supporting documents to the 2005 Defense Base Closure and Realignment Commission, 2521 South Clark Street Suite 600, Arlington, Virginia 22202-3920. The Commission requests that public comments be directed toward matters bearing on the decision criteria described in The Defense Base Closure and Realignment Act of 1990, as amended, available on the Commission Web site. Sections 2912 through 2914 of that Act describe the criteria and many of the essential elements of the 2005 BRAC process. For questions regarding this announcement, contact Mr. Dan Cowhig, Deputy General Counsel and Designated Federal Officer, at the Commission's mailing address or by telephone at 703-699-2950 or 2708.

Dated: August 5, 2005.
Jeannette Owings-Ballard,
Administrative Support Officer.

[FR Doc. 05-15908 Filed 8-10-05; 8:45 am]

BILLING CODE 5001-06-P